DEPARTMENT OF ENERGY

Federal Energy Regulatory Commission

Notice of Settlement Agreement and Soliciting Comments

July 25, 2003.

Take notice that the following settlement agreement has been filed with the Commission and is available for public inspection.

a. Type of Application: Settlement Agreement.

b. Project No.: 2009-018.

c. Date Filed: July 15, 2003.

d. Applicant: Virginia Electric and Power Company (d/b/a Dominion Virginia Power/North Carolina Power).

e. Name of Project: Roanoke Rapids and Gaston Hydroelectric Project.

f. Location: Located on the Roanoke River, near the town of Roanoke Rapids, North Carolina. The project is located in Brunswick and Mechlenburg Counties, Virginia, and Northampton, Halifax and Warren Counties, North Carolina. No federal lands are occupied by the project works or located with the project boundary.

g. Filed Pursuant to: Rule 602 of the Commission's Rules of Practice and Procedure, 18 CFR 385.602.

h. Applicant Contact: Mr. Jim Thorton, Dominion Generation, 500 Dominion Blvd., Glenn Allen, VA. 23060; (804) 273-3257.

i. FERC Contact: Allan Creamer at (202) 502-8365, or by e-mail at allan.creamer@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site ( http://www.ferc.gov ) under the “e-filing” link.

k. Dominion filed the Comprehensive Settlement Agreement on behalf of itself and 13 other stakeholders. The purpose of the Settlement Agreement is to resolve, among the signatories, all issues related to Dominion's pending Application for New License for the Roanoke Rapids and Gaston Hydroelectric Project. The issues resolved through the settlement relate to project operations, flood control and municipal water withdrawls, minimum flows, reservoir fluctuations, water quality, environmental restoration and enhancement measures (e.g., fish passage, shoreline management), cultural resource management, and recreational enhancements. Dominion requests that the Commission approve the Settlement Agreement and incorporate the proposed license articles in Appendix A of the Settlement Agreement into a new 40-year license for the project.

l. A copy of the Settlement Agreement is available for review at the Commission in the Public Reference Room or may be viewed on the Commission's Web site at http://www. ferc.gov, using the “FERRIS” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Magalie R. Salas,
Secretary.

[FR Doc. 03-19600 Filed 7-31-03; 8:45 am]

BILLING CODE 6717-01-P